DEPARTMENT OF THE INTERIOR

Fish and Wildlife Service

Notice of Availability of Restoration Compensation Determination Plan/Environmental Assessment for the Grand Calumet River, Indiana Harbor Ship Canal, Indiana Harbor and Associated Lake Michigan Environments

AGENCY: Fish and Wildlife Service, Interior.

ACTION: Notice of 60-day comment period.

SUMMARY: Notice is given that the document entitled: “Restoration and Compensation Determination Plan/ Environmental Assessment Grand Calumet River, Indiana Harbor Ship Canal, Indiana Harbor Canal Natural Resource Damage Assessment” will be available for public review and comment on the date of publication in the Federal Register.

DATES: Written comments on the Plan must be submitted within 60 days of the date of this Notice.

ADDRESSES: Written comments may be mailed to: Supervisor, Ecological Services Office, U.S. Fish and Wildlife Service, 620 S. Walker Street, Bloomington, Indiana 47403; faxed to (812) 334-4273; or: Natural Resource Trustee, Office of Legal Counsel, Indiana Department of Environmental Management, 100 N. Senate Avenue, P.O. Box 6015, Indianapolis, Indiana 46206-6015; faxed to (317) 233-5517.

FOR FURTHER INFORMATION CONTACT: This RCDP/EA is available on our Web site at: http://midwest.fws.gov/GrandCalumetRiver. For further information, contact Dan Sparks, Telephone 812-334-4261, extension 219; e-mail Daniel_Sparks@fws.gov.

SUPPLEMENTARY INFORMATION: The purpose of this restoration compensation determination plan/environmental assessment is to aid in the development of restoration options for natural resources that have been injured in the Grand Calumet River, Indiana Harbor Ship Canal, Indiana Harbor and Associated Lake Michigan Environments resulting from exposure to hazardous substances released by area steel mills, refineries and other sources. This plan has been developed to address natural resource injury and resultant damages under the Comprehensive Environmental Response, Compensation, and Liability Act, as amended, and the Clean Water Act, as amended.

Charles Wooley,
Acting Regional Director, U.S. Fish and Wildlife Service.

[FR Doc. 04-16774 Filed 7-22-04; 8:45 am]

BILLING CODE 4310-55-P